DEPARTMENT OF COMMERCE

Foreign-Trade Zones Board

[B-58-2017]

Foreign-Trade Zone (FTZ) 23—Erie County, New York; Authorization of Production Activity; Cummins, Inc., Subzone 23D (Diesel and Gas Engines), Lakewood and Jamestown, New York

On August 28, 2017, the Erie County Industrial Development Agency, grantee of FTZ 23, submitted a notification of proposed production activity to the FTZ Board on behalf of Cummins, Inc., within Subzone 23D, in Lakewood and Jamestown, New York.

The notification was processed in accordance with the regulations of the FTZ Board (15 CFR part 400), including notice in the Federal Register inviting public comment (82 FR 44557-44558, September 25, 2017). On December 26, 2017, the applicant was notified of the FTZ Board's decision that no further review of the activity is warranted at this time. The production activity described in the notification was authorized, subject to the FTZ Act and the FTZ Board's regulations, including Section 400.14.

Dated: December 28, 2017.
Elizabeth Whiteman,
Acting Executive Secretary.

[FR Doc. 2017-28478 Filed 1-3-18; 8:45 am]

BILLING CODE 3510-DS-P